DEPARTMENT OF COMMERCE

National Oceanic and Atmospheric Administration

RIN 0648-XC857

Mid-Atlantic Fishery Management Council (MAFMC); Public Meeting

AGENCY: National Marine Fisheries Service (NMFS), National Oceanic and Atmospheric Administration (NOAA), Commerce.

ACTION: Notice of public meeting.

SUMMARY: The Spiny Dogfish Monitoring Committee of the Mid-Atlantic Fishery Management Council (Council) will hold a meeting.

DATES: The Monitoring Committee will meet Monday, September 23, 2013 beginning at 10 a.m. and conclude by 3 p.m.

ADDRESSES: The meeting will be held via webinar with a listening station also available at the Council address below. Webinar link: http://mafmc.adobeconnect.com/dogfish/

Council address: Mid-Atlantic Fishery Management Council, 800 N State Street, Suite 201, Dover, DE 19901; telephone: (302) 674-2331.

FOR FURTHER INFORMATION CONTACT: Christopher M. Moore Ph.D., Executive Director, Mid-Atlantic Fishery Management Council, 800 N State Street, Suite 201, Dover, DE 19901; telephone: (302) 526-5255.

SUPPLEMENTARY INFORMATION: The Spiny Dogfish Monitoring Committee will review the annual catch target (ACT) and other management measures that have been established for the 2014 fishing year in light of the recent assessment update and September 17, 2013 review by the Council's Scientific and Statistical Committee.

Special Accommodations:

The meeting is physically accessible to people with disabilities. Requests for sign language interpretation or other auxiliary aids should be directed to M. Jan Saunders at the Mid-Atlantic Council Office, (302) 526-5251, at least 5 days prior to the meeting date.

Dated: September 4, 2013.
Tracey L. Thompson,
Acting Deputy Director, Office of Sustainable Fisheries, National Marine Fisheries Service.

[FR Doc. 2013-21873 Filed 9-6-13; 8:45 am]

BILLING CODE 3510-22-P